ENVIRONMENTAL PROTECTION AGENCY

[FRL-7002-1]

Agency Information Collection Activities: Proposed Collection; Comment Request; Protection of Stratospheric Ozone—Request for Applications for Critical Use Exemptions From the Phaseout of Methyl Bromide

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Request for Applications for Critical Use Exemptions from the Phaseout of Methyl Bromide, ICR #2031.01. Before submitting the ICR to OMB for review and approval, EPA is soliciting comments on specific aspects of the proposed information collection as described below.

DATES: Comments must be submitted on or before August 27, 2001.

ADDRESSES: Copies of the material supporting this ICR renewal notice are available free of charge from The Stratospheric Ozone Protection Hotline at 1-800-269-1996 between the hours of 10 am and 4 pm Eastern Standard Time.

FOR FURTHER INFORMATION CONTACT: Amber Moreen, Telephone: (202) 564-9295, Fax: (202) 564-2155, Email: Moreen.Amber@epa.gov.

SUPPLEMENTARY INFORMATION: Affected entities: Entities potentially affected by this action are those which may want to request critical use exemptions from the phaseout of methyl bromide, such as State agencies responsible for the regulation of pesticides.

Title: Request for Applications for Critical Use Exemptions from the Phaseout of Methyl Bromide (ICR #2031.01)

Abstract: The international treaty, The Montreal Protocol on Substances that Deplete the Ozone Layer (Protocol) and Title VI of the Clean Air Act (CAA) establish the phaseout of methyl bromide. The Protocol and Section 604(d)(6) of the CAA, added by Section 764 of the 1999 Omnibus Consolidated and Emergency Supplemental Appropriations Act (Public Law No. 105-277; October 21, 1998), provide an exemption from the phaseout of methyl bromide that allows for the continued import and/or production of methyl bromide for critical uses. The critical use exemption applies to critical methyl bromide uses agreed to by the Parties to the Protocol as of the complete phaseout of methyl bromide, January 1, 2005.

Under the Montreal Protocol, exemptions are granted for uses that are determined by the Parties to be “critical” as defined by Decision IX/6. The critical-use allowances will be allocated to the United States entities based on the nominations made to the Protocol which will be decided upon by the Parties at the 2003 meeting and at meetings thereafter.

This data collection is designed to: (1) Maintain consistency with the international treaty, the Montreal Protocol on Substances that Deplete the Ozone Layer; (2) ensure that any critical use exemption complies with Section 604(d) of the CAA; and (3) provide EPA with necessary data to evaluate an application for a critical use exemption and to evaluate the technical and economic feasibility of methyl bromide alternatives in the circumstances of the specific use. Requests for critical use exemptions, thus submission of the application, are at the discretion of a State. Should one of these entities apply for the exemption, then the information and data herein are requested by EPA.

Pursuant to regulations 40 CFR part 2, subpart B, you are entitled to assert a business confidentiality claim covering any part of the submitted business information as defined in 40 CFR 2.201(c). An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The burden hours shown below represent the hours for the information collection request (ICR). The ICR provides a detailed explanation of this estimate, which is only briefly summarized in this notice. The annual public burden for collection of information associated with the exemption is estimated to average 125 hours per application, including time for reading the request for applications, processing, compiling and reviewing the requested data, generating application correspondence or summary reports, and storing, filing, and maintaining the data. The following is a summary of the estimates taken from the ICR:

Respondents/affected entities: 200.

Estimated total number of potential respondents: 200.

Frequency of response: Annual.

Estimated total/average number of responses for each respondent: 1.

Estimated total annual burden hours: 25,000.

Estimated total annual burden costs: $1,500,000.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 8, 2001.
Paul Stolpman,
Director, Office of Atmospheric Programs.

[FR Doc. 01-16120 Filed 6-26-01; 8:45 am]

BILLING CODE 6560-50-P